DEPARTMENT OF HEALTH AND HUMAN SERVICES

Centers for Disease Control and Prevention

[60Day-09-0730]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Effectiveness of the Smoke Alarm Installation and Fire Safety Education (SAIFE) Program—Extension—National Center for Injury Prevention and Control (NCIPC), Centers for Disease Control and Prevention (CDC).

Background and Brief Description

This project seeks a one year extension of its OMB PRA clearance for data collection. Due to early project delays in obtaining clearances for data collection, the project was unable to start as planned and missed evaluating one program cycle, with a program cycle running for approximately one year. This extension is necessary in order to complete the projects original design of evaluating three program cycles of the SAIFE program as implemented in the State of North Carolina. An extension will allow completion of the evaluation of the third and final cycle of the program.

This project will use data from in-person interviews, paper and telephone surveys to assess the effectiveness of the Smoke Alarm Installation and Fire Safety Education (SAIFE) program and its efficacy in delivering fire safety information. The data will be collected from a convenience sample of adults 18 years of age or older who volunteer to participate in the SAIFE program. A total of 360 households will complete the evaluation each year of the data collection for a mass total of 1080 households over the next three years. Participants will be asked to complete a 15-minute survey at two points, once immediately before the intervention and then 6 months afterwards. The survey will assess outcome measures including, but not limited to, changes in knowledge, attitudes, beliefs, and behaviors regarding various aspects of fire safety and prevention; changes in reported residential fire-related injuries and deaths; increased or decreased presence of functioning smoke alarms; and the costs associated with the SAIFE intervention. The evaluation will measure these changes across time, between groups and within groups, among communities that will receive the SAIFE intervention.

CDC programs are currently funded in 16 states to provide for home installation of smoke alarms plus general fire safety education in households at high risk for fire and fire related injury and death. Programs of this type are intended to prevent fire related injury and mortality, but have not been studied scientifically to assess their impact on fire-related injury outcomes. The proposed study represents the first formal effort to evaluate the effectiveness and cost implications of the SAIFE program as implemented in North Carolina. The data collected in this study will have the potential to inform other smoke alarm installation programs, as well as indicate future priorities in prevention and preparedness for residential household fires. The only cost to the participant is the time involved to complete the surveys.

Estimate of Annualized Burden Table
Type of respondents | Number of respondents | Number of responses per respondent | Average burden per response (in hours) | Estimated total annual burden (in hours)
Adult male and female (age 18+ years) screened | 425 | 1 | 5/60 | 35
Adult male and female (age 18+ years) Pre/Post Evaluation survey | 360 | 2 | 15/60 | 180
Adult male and female (age 18+ years) household visit | 36 | 1 | 1 | 36
Total |  |  |  | 251

Dated: June 3, 2009.
Maryam I. Daneshvar,
Acting Reports Clearance Officer, Centers for Disease Control and Prevention.

[FR Doc. E9-13411 Filed 6-8-09; 8:45 am]

BILLING CODE 4163-18-P